DEPARTMENT OF HEALTH AND HUMAN SERVICES

National Institutes of Health

Draft NTP Developmental and Reproductive Toxicity Technical Report on 2-Hydroxy-4-Methoxybenzophenone: Availability of Documents; Request for Comments; Notice of Peer-Review Meeting

Pursuant to section 1009 of the Federal Advisory Committee Act as amended, notice is hereby given of the peer review meeting of the draft National Toxicology Program (NTP) Developmental and Reproductive Toxicity Technical Report on 2-Hydroxy-4-methoxybenzophenone.

NTP panels are technical, scientific advisory bodies established on an “as needed” basis to provide independent scientific peer review and advise NTP on agents of public health concern, new/revised toxicological test methods, or other issues. These panels help ensure transparent, unbiased, and scientifically rigorous input to the program for its use in making credible decisions about human hazard, setting research and testing priorities, and providing information to regulatory agencies about alternative methods for toxicity screening.

This meeting will be held as a virtual meeting and open to the public. Individuals who plan to view the virtual meeting and need special assistance, such as sign language interpretation or other reasonable accommodations, should notify the Contact Person listed below. TTY users should contact the Federal TTY Relay Service at 800-877-8339 or 711. All requests should be made at least five business days in advance of the meeting.

Name of Committee: National Toxicology Program Special Emphasis Panel.

Date: December 1, 2025.

Time: 10:00 a.m. Eastern Standard Time (EST) to approximately 2 p.m. EST.

Agenda: To peer review the Draft NTP Developmental and Reproductive Toxicity Technical Report on 2-Hydroxy-4-methoxybenzophenone.

Address: National Institute of Environmental Health Sciences, 111 T.W. Alexander Drive, Research Triangle Park, NC 27709.

Meeting Format: Virtual Meeting.

Contact Person: Mary S. Wolfe, Ph.D., Designated Federal Officer and Director, Office of Policy, Review, and Outreach, Division of Translational Toxicology, National Institute of Environmental Health Sciences, National Institutes of Health, P.O. Box 12233, MD K2-03, 111 T.W. Alexander Drive, Research Park Triangle, NC 27709, wolfe@niehs.nih.gov.

Meeting Materials: The preliminary agenda, registration, draft report, and other meeting materials will be available at https://ntp.niehs.nih.gov/go/36051.

Registration: Registration is required to attend to view the webcast, and/or present oral comments. Written public comments will be accepted. Registration information is available at https://ntp.niehs.nih.gov/go/36051.

Public Comments: Any interested individual or group may submit written comments with the committee. Information on submitting written comments is available at https://ntp.niehs.nih.gov/go/36051.

In addition, any interested individual or group may register to present oral comments at https://ntp.niehs.nih.gov/go/36051. The formal comment period allows for a maximum of five oral public commenters, five minutes per speaker. Only one representative of an organization may be allowed to present oral comments. Registration is on a first-come, first-served basis. If the maximum number of commenters is exceeded, individuals registering to submit an oral comment will be placed on a wait list and notified should an opening become available.

Responses to this notice are voluntary. No proprietary, classified, confidential, or sensitive information should be included in statements submitted in response to this notice or presented during the meeting. This request for input is for planning purposes only and is not a solicitation for applications or an obligation on the part of the U.S. Government to provide support for any ideas identified in response to the request. Please note that the U.S. Government will not pay for the preparation of any information submitted or for its use of that information.

Dated: September 19, 2025.
David W. Freeman,
Supervisory Program Analyst, Office of Federal Advisory Committee Policy.

[FR Doc. 2025-18429 Filed 9-22-25; 8:45 am]

BILLING CODE 4140-01-P